NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension:

DOE/NRC Form 742—Revision.

DOE/NRC Form 742C—Extension.

2. The title of the information collection:

DOE/NRC Form 742, “Material Balance Report;”

NUREG/BR-0007, “Instructions for the Preparation and Distribution of Material Status Reports;” and DOE/NRC Form 742C, “Physical Inventory Listing.”

3. The form numbers if applicable: NRC Form 742 and NRC Form 742C.

4. How often the collection is required: DOE/NRC Forms 742 and 742C are submitted annually following a physical inventory of nuclear materials.

5. Who will be required or asked to report: Persons licensed to possess specified quantities of special nuclear or source material.

6. An estimate of the number of responses:

DOE/NRC Form 742: 180 licensees.

DOE/NRC Form 742C: 180 licensees.

7. An estimate of the number of annual respondents:

DOE/NRC Form 742: 180 licensees.

DOE/NRC Form 742C: 180 licensees.

8. The number of hours needed annually to complete the requirement or request:

DOE/NRC Form 742: 900 hours (5 hours per respondent.).

DOE/NRC Form 742C: 1,080 hours (6 hours per respondent.).

9. An indication of whether section 3507(d), Public Law 104-13 applies: NA.

10. Abstract: Each licensee authorized to possess special nuclear material totaling more than 350 grams of contained uranium-235, uranium-233, or plutonium, or any combination thereof, are required to submit DOE/NRC Forms 742 and 742C. In addition, any licensee authorized to possess 1,000 kilograms of source material is required to submit DOE/NRC Form 742. The information is used by NRC to fulfill its responsibilities as a participant in US/IAEA Safeguards Agreement and various bilateral agreements with other countries, and to satisfy its domestic safeguards responsibilities.

A copy of the final supporting statement may be viewed free of charge at the NRC Public Document Room, One White Flint North, 11555 Rockville Pike, Room O-1 F21, Rockville, MD 20852. OMB clearance requests are available at the NRC worldwide Web site http://www.nrc.gov/public-involve/doc-comment/omb/index.html. The document will be available on the NRC home page site for 60 days after the signature date of this notice.

Comments and questions should be directed to the OMB reviewer listed below by August 18, 2006. Comments received after this date will be considered if it is practical to do so, but assurance of consideration cannot be given to comments received after this date.

John A. Asalone, Office of Information and Regulatory Affairs (3150-0004; -0058), NEOB-10202, Office of Management and Budget, Washington, DC 20503.

Comments can also be e-mailed to John_A._Asalone@omb.eop.gov or submitted by telephone at (202) 395-4650.

The NRC Clearance Officer is Brenda Jo Shelton, (301) 415-7233.

Dated at Rockville, Maryland, this 12th day of July 2006.
For the Nuclear Regulatory Commission.
Brenda Jo Shelton,
NRC Clearance Officer, Office of Information Services.

[FR Doc. E6-11409 Filed 7-18-06; 8:45 am]

BILLING CODE 7590-01-P